DEPARTMENT OF ENERGY

Federal Energy Regulatory Commission

[Docket No. IC19-28-000]

Commission Information Collection Activities (FERC-555); Comment Request

AGENCY: Federal Energy Regulatory Commission, Department of Energy.

ACTION: Comment request.

SUMMARY: In compliance with the requirements of the Paperwork Reduction Act of 1995, the Federal Energy Regulatory Commission (Commission or FERC) is submitting its information collection FERC-729 (Electric Transmission Facilities) to the Office of Management and Budget (OMB) for review of the information collection requirements. Any interested person may file comments directly with OMB and should address a copy of those comments to the Commission as explained below. The Commission previously published a Notice in the Federal Register on June 27, 2019, requesting public comments. The Commission received no comments and is making this notation in its submittal to OMB.

DATES: Comments on the collection of information are due by October 4, 2019.

ADDRESSES: Comments filed with OMB, identified by the OMB Control No. 1902-0098, should be sent via email to the Office of Information and Regulatory Affairs: oira_submission@omb.gov. Attention: Federal Energy Regulatory Commission Desk Officer.

A copy of the comments should also be sent to the Commission, in Docket No. IC19-28-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-555 (Preservation of Records for Public Utilities and Licensees, Natural Gas and Oil Pipeline Companies).

OMB Control No.: 1902-0098.

Abstract: The Commission collects the information under the requirements of FERC-555 (Records Retention Requirements) to carry out its responsibilities in implementing the statutory provisions of Sections 301, 304 and 309 of the Federal Power Act (FPA),¹ Sections 8, 10 and 16 of the Natural Gas Act (NGA),² and Section 20 of the Interstate Commerce Act (ICA).³

¹ 16 U.S.C. 825, 825c and 825h.

² 15 U.S.C. 717-717w.

³ 49 U.S.C. 20.

The regulations for preservation of records establish retention periods, necessary guidelines, and requirements for retention of applicable records. These requirements apply to the regulated public utilities, natural gas and oil pipeline companies subject to the Commission's jurisdiction. Regulated entities use these records as the basis for required rate filings and reports to the Commission. Additionally, the Commission's audit staff will use the records during compliance reviews. The Commission's enforcement staff will also use the information during investigations. Finally, the Commission will use the records for special analyses when necessary.

On January 8, 1999 the Commission issued AI99-2-000, an Accounting Issuance providing guidance on records storage media. More specifically, the Commission gave each jurisdictional company the flexibility to select its own storage media. The storage media selected must have a life expectancy equal to the applicable record period unless the quality of the data transferred from one media to another with no loss of data would exceed the record period.

On January 27, 2000, the Commission issued a final rule amending its records retention regulations for public utilities and licensees as well as natural gas and oil pipeline companies. These changes included revising the general instructions, and shortening various records retention periods. The objective of the final rule was to reduce or eliminate burdensome and unnecessary regulatory requirements.

The Commission is not making any additional changes to the record retention requirements specified under FERC-555. The Commission implements these filing requirements in the Code of Federal Regulations (CFR) under 18 CFR parts 125, 225, and 356.

Type of Respondent: Electric utilities, natural gas pipelines, and oil pipelines.

Estimate of Annual Burden: ⁴ The Commission estimates the annual public reporting burden for the information collection as:

⁴ “Burden” is the total time, effort, or financial resources expended by persons to generate, maintain, retain, or disclose or provide information to or for a Federal agency. For further explanation of what is included in the information collection burden, refer to Title 5 Code of Federal Regulations 1320.3.

FERC-555—Preservation of Records for Public Utilities and License, Natural Gas and Oil Pipeline Companies
Number of respondents | Annual number of responses per respondent | Total number of responses | Average burden hrs. and cost per response ⁵ | Total annual burden hours and total annual cost
(1) | (2) | (1) * (2) = (3) | (4) | (3) * (4) = (5)
509 | 1 | 509 | 5,218.14 hrs.; $417,451 | 2,656,034 hrs.; $212,482,720.

Additional Background. Based on the data submitted by jurisdictional filers in 2010, we provide more detail regarding how we generated burden and cost estimates. We divided the entities into three size categories based on annual revenue reported on FERC's financial forms (Form 1, Form 2/2A and Form 6).⁶ As indicated in the appendix, we only received useful responses from five entities: Three large, one medium, and one small. Because of this very limited data, it should not be inferred that the average burden and cost indicated for each entity size are representative of the burden for all entities in that size category and industry. We performed the analysis in this way in order to come up with a better average to apply across all the industries. It should also be noted that it is difficult to compare across industries based on entity size. For example, the first table below indicates that a large electric utility has an annual revenue more than ten times greater than a large gas pipeline.

⁵ The estimates for cost per response are derived using the following formula: Average Burden Hours per Response * $80/hour = Average cost/response. The figure is the 2019 FERC average hourly cost (for wages and benefits) of $80 (and an average annual salary of $167,091/year). Commission staff is using the FERC average salary because we consider any record retention requirements completed in response to the FERC-555 to be compensated at rates similar to the work of FERC employees.

⁶ The size thresholds are estimates based on staff judgment.

The first table shows the estimated size categories by industry, and the second table shows the burden and cost based on size (combining the 3 industries).

Industry and size classification | Annual revenue
ELECTRIC:
Large | >$1.15 Billion.
Medium | $310 Million to $1.15 Billion.
Small | <310 Million.
GAS:
Large | >$100 Million.
Medium | $10 Million to $100 Million.
Small | <$10 Million.
OIL:
Large | >$50 Million.
Medium | $5 Million to $50 Million.
Small | <$5 Million.

Size | Number of entities | Average hours per entity | Total burden hours ⁷
| (1) | (2) | (1) * (2)
Large | 174 | 11,475 | 1,996,658
Medium | 166 | 2,371 | 393,619
Small | 169 | 1,571 | 265,572

The total estimated annual cost burden to respondents is $212,482,720, which includes $127,433,401 for non-labor record storage costs and $85,049,319 for employee costs. The average cost per respondent is $417,451, which includes $250,360 for non-labor record storage costs and $167,091 for employee costs. All of these cost figures are based on staff analysis of the data we received in 2019.

⁷ Due to rounding during the analysis and calculations, the total in this column does not sum to the exact figure reported shown in the summary burden table.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 28, 2019.
Nathaniel J. Davis, Sr.,
Deputy Secretary.

[FR Doc. 2019-19043 Filed 9-3-19; 8:45 am]

BILLING CODE 6717-01-P